DEPARTMENT OF ENERGY

Federal Energy Regulatory Commission

[Docket No. ER01-2086-000]

San Manuel Power Co. LLC; Notice of Issuance of Order

July 19, 2001.

San Manuel Power Co. LLC (San Manuel) filed with the Commission, in the above-docketed proceeding, an application under section 205 of the Federal Power Act seeking to sell energy and capacity at market-based rates under the terms of its proposed FERC Electric No. 1. San Manuel's filing also requested certain waivers and authorizations. In particular, San Manuel requested that the Commission grant blanket approval under 18 CFR Part 34 of all future issuances of securities and assumptions of liabilities by San Manuel. On July 17, 2001, the Commission issued an order that accepted the tariff for sales of capacity and energy at market-based rates (Order), in the above-docketed proceeding.

The Commission's July 17, 2001 Order granted San Manuel's request for blanket approval under Part 34, subject to the conditions found in Ordering Paragraphs (C), (D), and (F):

(C) Within 30 days of the date of issuance of this order, any person desiring to be heard or to protest the Commission's blanket approval of issuances of securities or assumptions of liabilities by San Manuel should file a motion to intervene or protest with the Federal Energy Regulatory Commission, 888 First Street, NE., Washington, DC 20426, in accordance with Rules 211 and 214 of the Commission's Rules of Practice and Procedure, 18 CFR 385.211 and 385.214.

(D) Absent a request to be heard within the period set forth in Ordering Paragraph (C) above, San Manuel is hereby authorized to issue securities and assume obligations and liabilities as guarantor, indorser, surety or otherwise in respect of any security of another person; provided that such issue or assumption is for some lawful object within the corporate purposes of San Manuel, compatible with the public interest, and reasonably necessary or appropriate for such purposes.

(F) The Commission reserves the right to modify this order to require a further showing that neither public nor private interests will be adversely affected by continued Commission approval of San Manuel's issuances of securities or assumptions of liabilities * * *

Notice is hereby given that the deadline for filing motions to intervene or protests, as set forth above, is August 16, 2001.

Copies of the full text of the Order are available from the Commission's Public Reference Branch, 888 First Street, NE., Washington, DC 20426. The Order may also be viewed on the on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18486 Filed 7-24-01; 8:45 am]

BILLING CODE 6717-01-P